SECURITIES AND EXCHANGE COMMISSION

[Release No. 34-93332; File Nos. SR-NYSE-2021-15, SR-NYSEAMER-2021-13, SR-NYSEArca-2021-15, SR-NYSENAT-2021-05, SR-NYSECHX-2021-04)]

Self-Regulatory Organizations; New York Stock Exchange LLC; NYSE American LLC; NYSE Arca, Inc.; NYSE National, Inc.; NYSE Chicago, Inc.; Notice of Withdrawal of Proposed Rule Changes To Amend Each of the Exchange's Fee Schedules Related to Co-Location

October 14, 2021.

On March 10, 2021, New York Stock Exchange LLC (“NYSE”), NYSE American LLC (“NYSE American”), NYSE Arca, Inc. (“NYSE Arca”), NYSE National, Inc. (“NYSE National”), and NYSE Chicago, Inc. (“NYSE Chicago”) (each an “Exchange,” collectively, the “Exchanges”) each filed with the Securities and Exchange Commission (“Commission”), pursuant to Section 19(b)(1) of the Securities Exchange Act of 1934 (“Act”) ¹ and Rule 19b-4 thereunder,² a proposed rule change to amend the Exchanges' fee schedules related to co-location to provide Users with access to the systems and connectivity to the data feeds of several third parties and establish associated fees. Each proposed rule change was immediately effective upon filing with the Commission pursuant to Section 19(b)(3)(A) of the Act.³

¹ 15 U.S.C. 78s(b)(1).

² 17 CFR 240.19b-4.

³ 15 U.S.C. 78s(b)(3)(A).

The proposed rule changes were published for comment in the Federal Register on March 29, 2021.⁴ On May 7, 2021, the Commission, pursuant to Section 19(b)(3)(C) of the Act ⁵ temporarily suspended File Nos. SR-NYSE-2021-15, SR-NYSEAMER-2021-13, SR-NYSEArca-2021-15, SR-NYSENAT-2021-05, and SR-NYSECHX-2021-04; and (2) instituted proceedings to determine whether to approve or disapprove File Nos. SR-NYSE-2021-15, SR-NYSEAMER-2021-13, SR-NYSEArca-2021-15, SR-NYSENAT-2021-05, and SR-NYSECHX-2021-04.⁶ The Commission received two comment letters on the proposal from the Exchanges.⁷ On September 23, 2021, pursuant to Section 19(b)(2) of the Act,⁸ the Commission designated a longer period for Commission action on the proceedings to determine whether to approve or disapprove the proposed rule changes.⁹ On October 12, 2021, each Exchange withdrew its proposed rule change (SR-NYSE-2021-15, SR-NYSEAMER-2021-13, SR-NYSEArca-2021-15, SR-NYSENAT-2021-05, SR-NYSECHX-2021-04).

⁴ See Securities Exchange Act Release Nos. 91386 (March 23, 2021), 86 FR 16410 (March 29, 2021); 91387 (March 23, 2021), 86 FR 16417 (March 29, 2021); 91388 (March 23, 2021), 86 FR 16433 (March 29, 2021); 91389 (March 23, 2021), 86 FR 16403 (March 29, 2021); 91390 (March 23, 2021), 86 FR 16424 (March 29, 2021).

⁵ 15 U.S.C. 78s(b)(3)(C).

⁶ See Securities Exchange Act Release No. 91790 (May 7, 2021), 86 FR 26242 (May 13, 2021).

⁷ The comment letters received by the Commission on the proposed rule changes are available on the Commission's website at: https://www.sec.gov/comments/sr-nyse-2021-15/srnyse202115.htm. NYSE filed comment letters on behalf of all of the Exchanges.

⁸ 15 U.S.C. 78s(b)(2).

⁹ See Securities Exchange Act Release No. 93107, 86 FR 53995 (September 29, 2021).

For the Commission, by the Division of Trading and Markets, pursuant to delegated authority.¹⁰
¹⁰ 17 CFR 200.30-3(a)(12).
J. Matthew DeLesDernier,
Assistant Secretary.

[FR Doc. 2021-22799 Filed 10-19-21; 8:45 am]

BILLING CODE 8011-01-P